Executive Order 14099 of May 9, 2023

Moving Beyond COVID-19 Vaccination Requirements for Federal Workers

By the authority vested in me as President by the Constitution and the laws of the United States of America, it is hereby ordered as follows:

Section 1. Policy. In 2021, based on the best available data and guidance from our public health experts, I issued Executive Order 14043 of September 9, 2021 (Requiring Coronavirus Disease 2019 Vaccination for Federal Employees), to direct executive departments and agencies (agencies) to require coronavirus disease 2019 (COVID-19) vaccination for their employees, and Executive Order 14042 of September 9, 2021 (Ensuring Adequate COVID Safety Protocols for Federal Contractors), to ensure that Federal contractors and subcontractors have adequate COVID-19 safety protocols. I issued those orders at a time when the highly contagious B.1.617.2 (Delta) variant was the predominant variant of the virus in the United States and had led to a rapid rise in cases and hospitalizations. Those orders were necessary to protect the health and safety of critical workforces serving the American people and to advance the efficiency of Government services during the COVID-19 pandemic. Following issuance of those orders, my Administration successfully implemented a vaccination requirement for the Federal Government, the largest employer in the Nation, achieving a 98 percent compliance rate (reflecting employees who had received at least one dose of the COVID-19 vaccine or had a pending or approved exemption or extension request) by January 2022. More broadly, my Administration has effectively implemented the largest adult vaccination program in the history of the United States, with over 270 million Americans receiving at least one dose of the COVID-19 vaccine.

Following this important work, along with continued critical investments in tests and therapeutics that are protecting against hospitalization and death, we are no longer in the acute phase of the COVID-19 pandemic, and my Administration has begun the process of ending COVID-19 emergency declarations. Our public health experts have issued guidance that allows individuals to understand mitigation measures to protect themselves and those around them. Our healthcare system and public health resources throughout the country are now better able to respond to any potential surge of COVID-19 cases without significantly affecting access to resources or care. Since September 2021, COVID-19 deaths have declined by 93 percent, and new COVID-19 hospitalizations have declined by 86 percent. Considering this progress, and based on the latest guidance from our public health experts, we no longer need a Government-wide vaccination requirement for Federal employees or federally specified safety protocols for Federal contractors. Vaccination remains an important tool to protect individuals from serious illness, but we are now able to move beyond these Federal requirements.

Sec. 2. Revocation of Vaccination Requirements. Executive Order 14042 and Executive Order 14043 are revoked. Agency policies adopted to implement Executive Order 14042 or Executive Order 14043, to the extent such policies are premised on those orders, no longer may be enforced and shall be rescinded consistent with applicable law.

Sec. 3. Effective Date. This order is effective at 12:01 a.m. eastern daylight time on May 12, 2023.

Sec. 4. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

THE WHITE HOUSE,

May 9, 2023.

[FR Doc. 2023-10407

Filed 5-12-23; 8:45 am]

Billing code 3395-F3-P